DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327.

SUMMARY: The FHWA, on behalf of Caltrans, is issuing this notice to announce actions taken by Caltrans that are final. The actions relate to a proposed highway project, State Route 57 Northbound Improvement Project (PM 11.5-12.5) in the County of Orange, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before September 23, 2019. If the Federal law that authorizes judicial review of a claim provides a time period of less than 150 days for filing such claim, then that shorter time period still applies.

FOR FURTHER INFORMATION CONTACT: For Caltrans: Smita Deshpande, Chief Generalist Branch, Division of Environmental Analysis, California Department of Transportation, District 12, 1750 East 4th Street, Suite 100, Santa Ana, CA 92705, 8am-4pm, (657) 328-6151, smita.deshpande@dot.ca.gov.

SUPPLEMENTARY INFORMATION: Effective July 1, 2007, the Federal Highway Administration (FHWA) assigned, and the California Department of Transportation (Caltrans) assumed, environmental responsibilities for this project pursuant to 23 U.S.C. 327. Notice is hereby given that the Caltrans have taken final agency actions subject to 23 U.S.C. 139(l)(1) by issuing licenses, permits, and approvals for the following highway project in the State of California: Caltrans proposes to widen the northbound side of the State Route (SR) 57 freeway from 0.3 mile south of the Orangewood Avenue undercrossing (post mile [PM] 11.5) north to the Katella Avenue undercrossing (PM 12.5), a distance of about one mile. Project includes the proposed construction of a 550-foot section of the fifth general purpose (GP) lane in the northbound direction of SR 57 through the Katella Avenue interchange, upgrades to the non-standard median and sight distances, and reconfiguration of the existing on- and off-ramps to improve operation between the Orangewood Avenue interchange and the Katella Avenue interchange. The actions by the Federal agencies, and the laws under which such actions were taken, are described in the Final Environmental Assessment (FEA)/Finding of No Significant Impact (FONSI) for the project, issued March 29, 2019, and in other documents in the Caltrans' project records. The FEA, FONSI and other project records are available by contacting Caltrans at the addresses provided above. The Caltrans FEA and FONSI and other project records can be viewed and downloaded from the project website at http://www.dot.ca.gov/d12/DEA/57/0M9701. This notice applies to all Federal agency decisions as of the issuance date of this notice and all laws under which such actions were taken, including but not limited to:

1. Council on Environmental Quality Regulations

2. National Environmental Policy Act of 1969, as amended, 42 U.S.C. 4321 et seq.

3. Federal-Aid Highway Act of 1970, 23 U.S.C. 109

4. Department of Transportation Act of 1966, Section 4(f)

5. Clean Air Act Amendments of 1990

6. Clean Water Act of 1977 and 1987

7. Federal Water Pollution Control Act of 1972

8. Noise Control Act of 1972

9. Endangered Species Act of 1973

10. Executive Order 11990, Protection of Wetlands

11. Executive Order 13112, Invasive Species Act

12. Executive Order 13186, Migratory Birds

13. Fish and Wildlife Coordination Act of 1934, as amended

14. National Historic Preservation Act of 1966, as amended

15. Executive Order 11988, Floodplain Management

16. Department of Transportation (DOT) Executive Order 5650.2—Floodplain Management and Protection (April 23, 1979)

17. Title VI of the Civil Rights Act of 1964, as amended

(Catalog of Federal Domestic Assistance Program Number 20.205, Highway Planning and Construction. The regulations implementing Executive Order 12372 regarding intergovernmental consultation on Federal programs and activities apply to this program.)

Authority: 23 U.S.C. 139(l)(1)

Issued on: April 17, 2019.
Tashia Clemons,
Director, Planning and Environment, Federal Highway Administration, Sacramento, California.

[FR Doc. 2019-08159 Filed 4-23-19; 8:45 am]

BILLING CODE 4910-RY-P